DEPARTMENT OF ENERGY

Federal Energy Regulatory Commission

[Project No. 516-418]

South Carolina Electric & Gas Company; Notice of Availability of Environmental Assessment

June 12, 2006.

An environmental assessment (EA) is available for public review. The EA was prepared for an application filed by South Carolina Electric & Gas Company (licensee) on February 21, 2006 requesting commission approval for non-project use of project lands and waters at the Saluda Hydroelectric Project. The project is located on Lake Murray in Saluda County, South Carolina. The non-project use would include a water withdrawal of 15.0 million gallons per day for public drinking water, and a conveyance of 0.23 acres of project property along with a 40-foot wide ingress and egress easement for the purpose of constructing a raw-water pumping station and associated facilities. The water withdrawal would involve an inter-basin transfer from the Saluda River basin for use and discharge into the Lower Savannah River basin and the Edisto River basin.

The EA evaluates the environmental impacts that would result from approving the licensee's proposed water withdrawal and the construction of associated facilities. Some land disturbance and lake-bottom excavation would occur, but impacts to the terrestrial and aquatic resources are expected to be minor and short term. The EA finds that approval of the application for non-project use of project lands and waters would not constitute a major Federal action significantly affecting the quality of the human environment.

A copy of the EA is attached to a Commission order titled “Order Modifying and Approving Non-Project Use of Project Lands and Waters” issued June 9, 2006 and is available for review at the Commission or may be viewed on the Commission's Web site at http://www.ferc.gov using the “eLibrary” link. Enter the docket number excluding the last three digits in the docket number field to access documents. For assistance, contact FERC Online Support at FERCOnlineSupport@ferc.gov or toll-free at 1-866-208-3676, or for TTY, (202) 502-8659.

Magalie R. Salas,
Secretary.

[FR Doc. E6-9764 Filed 6-20-06; 8:45 am]

BILLING CODE 6717-01-P